DEPARTMENT OF ENERGY

Federal Energy Regulatory Commission

[Project No. 14513-003]

Idaho Irrigation District and New Sweden Irrigation District; Notice of Intent To Prepare an Environmental Assessment

On September 29, 2020, the Idaho Irrigation District and New Sweden Irrigation District filed an application for an original license to construct and operate the 2.5-megawatt County Line Road Hydroelectric Project No. 14513 (project). The proposed project would be located on the Snake River in Bonneville and Jefferson Counties, Idaho. The project would not occupy federal lands.

In accordance with the Commission's regulations, on July 14, 2021, Commission staff issued a notice that the project was ready for environmental analysis (REA notice). Based on the information in the record, including comments filed on the REA notice, staff does not anticipate that licensing the project would constitute a major federal action significantly affecting the quality of the human environment. Therefore, staff intends to prepare a draft and final Environmental Assessment (EA) on the application to license the project.

The EA will be issued and circulated for review by all interested parties. All comments filed on the EA will be analyzed by staff and considered in the Commission's final licensing decision.

The application will be processed according to the following schedule. Revisions to the schedule may be made as appropriate.

Milestone | Target date
Commission issues draft EA | April 2022.¹
Comments on draft EA | May 2022.
Commission issues final EA | October 2022.

Any questions regarding this notice may be directed to Matt Cutlip at (503) 552-2762 or matt.cutlip@ferc.gov.

¹ The Council on Environmental Quality's (CEQ) regulations under 40 CFR 1501.10(b)(1) require that EAs be completed within 1 year of the federal action agency's decision to prepare an EA. This notice establishes the Commission's intent to prepare an EA for the County Line Road Hydroelectric Project. Therefore, in accordance with CEQ's regulations, the EA must be issued within 1 year of the issuance date of this notice.

Dated: September 24, 2021.
Kimberly D. Bose,
Secretary.

[FR Doc. 2021-21267 Filed 9-29-21; 8:45 am]

BILLING CODE 6717-01-P